SMALL BUSINESS ADMINISTRATION

[License No. 05/05-0315]

Northcreek Mezzanine Fund II, L.P.; Notice Seeking Exemption Under Section 312 of the Small Business Investment Act, Conflicts of Interest

Notice is hereby given that Northcreek Mezzanine Fund II, L.P., 312 Walnut Street, Suite 2310 Cincinnati, OH 45202, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Northcreek Mezzanine Fund I, L.P. and Northcreek Mezzanine Fund II, L.P. propose to provide debt and equity financing to FBM Holdings LLC, 100 Winners Circle, Brentwood, TN 37027.

The financing is brought within the purview of § 107.730(a)(2) of the Regulations because Northcreek Mezzanine Fund I, L.P. is currently invested in FBM Holdings, LLC and because of its level of ownership, FBM Holdings LLC is an Associate. Northcreek Mezzanine Fund I, L.P. and Northcreek Mezzanine Fund II, L.P. are also Associates and are seeking to co-invest in FBM Holdings, LLC. Therefore this transaction is considered financing an Associate, requiring prior SBA exemption.

Notice is hereby given that any interested person may submit written comments on the transaction, within fifteen days of the date of this publication, to the Associate Administrator for Investment, U.S. Small Business Administration, 409 Third Street SW., Washington, DC 20416.

Dated: September 28, 2016.
Mark L. Walsh,
Associate Administrator for Office of Investment and Innovation.

[FR Doc. 2016-25078 Filed 10-17-16; 8:45 am]

BILLING CODE 8025-01-P